DEPARTMENT OF HOUSING AND URBAN DEVELOPMENT

[Docket No. FR-4401-C-06]

Statutorily Mandated Designation of Difficult Development Areas and Qualified Census Tracts for Section 42 of the Internal Revenue Code of 1986; Correction

AGENCY: Office of the Assistant Secretary for Policy Development and Research, HUD.

ACTION: Notice; correction.

SUMMARY: This notice corrects the designation of 2002 Qualified Census Tracts for Guam, published in the Federal Register on September 11, 2001.

FOR FURTHER INFORMATION CONTACT: For questions on how areas are designated and on geographic definitions: Steven Ehrlich, Economist, Division of Economic Development and Public Finance, Office of Policy Development and Research, Department of Housing and Urban Development, 451 Seventh Street, SW., Washington, DC 20410, telephone (202) 708-0426, e-mail Steven_R._Ehrlich@hud.gov. For specific legal questions pertaining to section 42 and this notice: Harold J. Gross, Senior Tax Attorney, Office of the General Counsel, Department of Housing and Urban Development, 451 Seventh Street, SW., Washington, DC 20410, telephone (202) 708-3260, e-mail JERRY_GROSS@hud.gov. For questions about the “HUBZones” program: Michael P. McHale, Assistant Administrator for Procurement Policy, Office of Government Contracting, Suite 8800, Small Business Administration, 409 Third Street, SW, Washington, DC 20416, telephone (202) 205-6731, fax (202) 205-7324, e-mail michael.mchale@sba.gov. A text telephone is available for persons with hearing or speech impairments at (202) 708-9300. (These are not toll-free telephone numbers.) Additional copies of this notice are available through HUD User at (800) 245-2691 for a small fee to cover duplication and mailing costs.

Copies Available Electronically: This notice and additional information about Difficult Development Areas and Qualified Census Tracts are available electronically on the Internet (World Wide Web) at http://www.huduser.org/datasets/qct.html.

SUPPLEMENTARY INFORMATION: On September 11, 2001 (66 FR 47266), the Department published a list of Statutorily Mandated Difficult Development Areas (DDAs) and Qualified Census Tracts (QCTs) for Section 42 of the Internal Revenue Code of 1986. Designations were made for all U.S. states and territories. An error affecting the Guam QCT designations was recently found. Five additional census tracts in Guam should have been designated as QCTs. No QCTs outside of Guam were affected by the error. No DDAs were affected by the error.

Accordingly, FR Doc 01-22566, a notice published in the Federal Register on September 11, 2001 (66 FR 47266), is corrected as follows:

On page 47370, the table under Nonmetropolitan Part of State: Guam, the entries are corrected to read as follows:

| Tract | Tract | Tract | Tract | Tract | Tract | Tract | Tract
Guam | 9502.00 | 9512.00 | 9513.00 | 9526.00 | 9530.00 | 9539.98 | 9548.00 | 9555.00

Dated: November 21, 2001.
Lawrence L. Thompson,
General Deputy, Assistant Secretary for Policy Development and Research.

[FR Doc. 01-30031 Filed 12-4-01; 8:45 am]

BILLING CODE 4210-62-P